DEPARTMENT OF ENERGY

National Coal Council; Notice of Open Meeting

AGENCY: Department of Energy.

ACTION: Notice of open meeting.

SUMMARY: This notice announces a meeting of the National Coal Council (NCC). The Federal Advisory Committee Act (Pub. L. 92-463, 86 Stat. 770) requires that public notice of these meetings be announced in the Federal Register.

DATES: Friday, November 5, 2010, 9 a.m. to noon.

ADDRESSES: The DoubleTree Hotel, 1515 Rhode Island Avenue, NW., Washington, DC 20005.

FOR FURTHER INFORMATION CONTACT: Michael J. Ducker, U.S. Department of Energy; 4G-036/Forrestal Building, 1000 Independence Avenue, SW., Washington, DC 20585-1290; Telephone: 202-586-7810.

SUPPLEMENTARY INFORMATION: Purpose of Meeting: To conduct an open meeting of the NCC and to provide an update of the current NCC study.

Tentative Agenda:

• Welcome and Call to Order by NCC Chair.

• Keynote address by Secretary Steven Chu, Department of Energy.

• Presentation by Mr. Ben Yamagata, Executive Director of the Coal Utilization Research Council on Carbon Dioxide Emissions Control Research and Development.

• Presentation by American Electric Power Company on the carbon capture and storage project at the Mountaineer Plant.

• Presentation by the American Coal Council Coal 2.0 Alliance on the development of engineered products that combine coal and biomass into one product.

• Update on the current Council study on carbon dioxide emissions capture, transport and storage.

• Other Business.

• Adjourn.

Public Participation: The meeting is open to the public. If you would like to file a written statement with the Committee, you may do so either before or after the meeting. If you would like to make oral statements regarding any potential items on the agenda, you should contact Michael J. Ducker, 202-586-7810 or Michael.Ducker@HQ.DOE.GOV (e-mail). You must make your request for an oral statement at least 5 business days before the meeting. Reasonable provision will be made to include the scheduled oral statements on the agenda. The Chairperson of the Committee will conduct the meeting to facilitate the orderly conduct of business. Public comment will follow the 10-minute rule.

Minutes: The NCC will prepare meeting minutes within 45 days of the meeting. The minutes will be posted on the NCC Web site at http://www.nationalcoalcouncil.org/.

Issued at Washington, DC, on October 14, 2010.
Rachel Samuel,
Deputy Committee Management Officer.

[FR Doc. 2010-26471 Filed 10-19-10; 8:45 am]

BILLING CODE 6450-01-P